DEPARTMENT OF ENERGY

Federal Energy Regulatory Commission

Combined Notice of Filings #1

Take notice that the Commission received the following electric rate filings:

Docket Numbers: ER17-2104-000.

Applicants: Southern Partners, INC.

Description: Amendment to July 18, 2017 Southern Partners, INC. tariff filing.

Filed Date: 9/12/17.

Accession Number: 20170912-5170.

Comments Due: 5 p.m. ET 10/3/17.

Docket Numbers: ER17-2461-000.

Applicants: Constellation Energy Services, Inc.

Description: Tariff Cancellation: Notice of Cancellation to be effective 9/13/2017.

Filed Date: 9/12/17.

Accession Number: 20170912-5132.

Comments Due: 5 p.m. ET 10/3/17.

Docket Numbers: ER17-2462-000.

Applicants: SunSea Energy, LLC.

Description: Baseline eTariff Filing: Market-Based Rate Tariff Application to be effective 9/13/2017.

Filed Date: 9/12/17.

Accession Number: 20170912-5133.

Comments Due: 5 p.m. ET 10/3/17.

Docket Numbers: ER17-2463-000.

Applicants: Public Service Company of Colorado.

Description: § 205(d) Rate Filing: 20170912 Grand Valley 2nd Amended Cleanup Filing to be effective 5/17/2017.

Filed Date: 9/12/17.

Accession Number: 20170912-5157.

Comments Due: 5 p.m. ET 10/3/17.

Docket Numbers: ER17-2464-000.

Applicants: AEP Energy Partners, Inc.

Description: § 205(d) Rate Filing: AEP Energy Partners-AEP Texas Inc. PPA Amendment to be effective 9/11/2017.

Filed Date: 9/12/17.

Accession Number: 20170912-5158.

Comments Due: 5 p.m. ET 10/3/17.

Docket Numbers: ER17-2465-000.

Applicants: DTE Electric Company.

Description: § 205(d) Rate Filing: Update to Reactive Revenue to be effective 11/1/2017.

Filed Date: 9/13/17.

Accession Number: 20170913-5001.

Comments Due: 5 p.m. ET 10/4/17.

Docket Numbers: ER17-2466-000.

Applicants: Midcontinent Independent System Operator, Inc.

Description: Request for limited waiver of certain provisions of its Tariff of Midcontinent Independent System Operator, Inc.

Filed Date: 9/12/17.

Accession Number: 20170912-5164.

Comments Due: 5 p.m. ET 10/3/17.

Docket Numbers: ER17-2467-000.

Applicants: Arizona Public Service Company.

Description: § 205(d) Rate Filing: Rate Schedule No. 217, Exhibit B's to be effective 11/13/2017.

Filed Date: 9/13/17.

Accession Number: 20170913-5050.

Comments Due: 5 p.m. ET 10/4/17.

Docket Numbers: ER17-2468-000.

Applicants: AES Ohio Generation, LLC.

Description: § 205(d) Rate Filing: AES Ohio Generation Reactive Power Filing to be effective 10/1/2017.

Filed Date: 9/13/17.

Accession Number: 20170913-5056.

Comments Due: 5 p.m. ET 10/4/17.

Docket Numbers: ER17-2469-000.

Applicants: The Dayton Power and Light Company.

Description: Tariff Cancellation: DP&L Reactive Power Tariff Cancellation Filing to be effective 10/1/2017.

Filed Date: 9/13/17.

Accession Number: 20170913-5067.

Comments Due: 5 p.m. ET 10/4/17.

Docket Numbers: ER17-2470-000.

Applicants: Red Dirt Wind Project, LLC.

Description: Baseline eTariff Filing: MBR Tariff to be effective 10/15/2017.

Filed Date: 9/13/17.

Accession Number: 20170913-5106.

Comments Due: 5 p.m. ET 10/4/17.

Take notice that the Commission received the following foreign utility company status filings:

Docket Numbers: FC17-7-000.

Applicants: Altamuskin Windfarm Limited.

Description: Notification of Self-Certification of Foreign Utility Company Status of Altamuskin Windfarm Limited, et al.

Filed Date: 9/12/17.

Accession Number: 20170912-5149.

Comments Due: 5 p.m. ET 10/3/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 13, 2017.
Nathaniel J. Davis, Sr.,
Deputy Secretary.

[FR Doc. 2017-19871 Filed 9-18-17; 8:45 am]

BILLING CODE 6717-01-P